DEPARTMENT OF TRANSPORTATION

Federal Highway Administration

Environmental Impact Statement: San Joaquin and Stanislaus Counties, CA

AGENCY: Federal Highway Administration (FHWA), DOT.

ACTION: Notice of Intent.

SUMMARY: The FHWA is issuing this notice to advise the public that an environmental impact statement (EIS) will be prepared for a proposal highway project in San Joaquin and Stanislaus counties, California.

FOR FURTHER INFORMATION CONTACT: Maiser Khaled, Team Leader, Federal Highway Administration, 980 Ninth St., Suite 400, Sacramento, California 95809, Telephone: (916) 498-5008.

SUPPLEMENTARY INFORMATION: The FHWA, in cooperation with California Department of Transportation (Caltrans), will prepare an EIS on a proposal to improve State Route 132 from the State Route 132/33 (SR132/33) Separation Overhead (Bridge 29-167L) in San Joaquin County to 0.16 km (0.1 m) west of the San Joaquin Bridge (Bridge 38-45) in Stanislaus County. The project is approximately 5.63 km (3.5m) in length. It is anticipated that these improvements improve traffic safety and operations by reducing congestion and accidents.

A larger geographic area from Interstate 580 (I-580) to Dakota Avenue west of the City of Modesto will be examined to evaluate indirect and cumulative impacts, and ensure full consideration of alternatives for the corridor. Alternatives under consideration include (1) taking no action; (2) using the existing two-lane highway as two westbound lanes and constructing two new eastbound lanes as a divided, four-lane expressway with limited access; (3) constructing a divided, four-lane expressway with limited access on new alignment; and (4) constructing a divided, four-lane freeway with controlled access on new alignment. Incorporated into and studied with the various build alternatives will be design variations of the existing SR132/33 interchange.

Letters describing the proposed action and soliciting comments will be sent to the appropriate Federal, State, and local agencies, and to private organizations and citizens who have expressed or are known to have interest in this proposal. Scoping meetings with local officials, State and Federal resource agencies will be held during the summer of 2002. Public participation for this study also includes community information meetings and a formal Public Hearing. The draft EIS will be available for public and agency review and comment prior to the public hearing Public notice will be given of the time and place for all meetings and hearings.

To ensure that the full range of issues related to this proposed action is addressed and all significant issues identified, comments and suggestions are invited from all interested parties. Comments or questions concerning this proposed action and the EIS should be directed to the FHWA at the address provided above.

(Catalog of Federal Domestic Assistance Program Number 20.205, Highway Research, Planning, and Construction. The regulations implementing Executive Order 12372 regarding intergovernmental consultation on Federal programs and activities apply to this program)
Issued on: May 20, 2002.
Maiser A. Khaled,
Chief, District Operations—North, Sacramento, California.

[FR Doc. 02-13744 Filed 5-31-02; 8:45 am]

BILLING CODE 4910-22-M